DEPARTMENT OF HEALTH AND HUMAN SERVICES

Health Resources and Services Administration

Agency Information Collection Activities: Proposed Collection: Public Comment Request; Information Collection Request Title: Generic Information Collection Request for Health Resources and Services Administration Hotlines, Chatlines, and Online Portals

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than January 17, 2025.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the ICR title for reference.

Information Collection Request Title: Generic Information Collection Request for Collections Related to HRSA Hotlines, Chatlines, and Online Portals, OMB No. 0906-New.

Abstract: HRSA currently administers approximately 15 hotlines, chatlines, and online portals for use by customers, members of the public, and HRSA funding recipients. These hotlines, chatlines, and online portals are administered by HRSA or a contractor on behalf of HRSA. The purpose of information collections under this generic umbrella ICR package is to allow HRSA to collect information on the operation of such HRSA hotlines, chatlines, and online portals to assist HRSA in improving their operation and determining if these services are helpful. In addition to collecting basic demographic information, the information collections would include questions such as reasons for inquiry, topics covered by inquiry, feedback on provided guidance or the hotline/chatline/online portal user experience. No protected information, such as personal health information or trade secrets, will be disclosed unless specifically required by law.

An illustrative, but not exhaustive, list of examples of information collection activities that would fall under this collection include standardized questions that are asked during the interaction with the public; surveys about their interaction; and information collected about their experience in use of hotlines, chatlines, and online portals. This generic umbrella ICR covers responses to standardized and survey questions relating to public use of HRSA's hotlines, chatlines, and online portals, pursuant to the “Social Media, Web-Based Interactive Technologies, and the Paperwork Reduction Act” 2010 White House guidance memo. The memo can be found at: https://www.whitehouse.gov/wp-content/uploads/legacy_drupal_files/omb/assets/inforeg/SocialMediaGuidance_04072010.pdf.

Need and Proposed Use of the Information: The purpose of collections under this generic umbrella ICR is for accountability, program management, and oversight purposes. Collecting feedback from members of the public about their interaction with these services will help ensure that HRSA hotlines, chatlines, and online portals are operating to the best of their abilities. While HRSA can evaluate the general need for and the overall practical utility of such information collection in advance, HRSA is unable to determine the details of the specific individual collection methodologies until a later time. Using a generic umbrella ICR will allow HRSA to quickly and nimbly respond to public needs and efficiently provide vital services to grantees and the general public, as the standard 6 to 9 month timeline to comply with a full request under the Paperwork Reduction Act could inhibit HRSA's ability to collect information to inform these activities that involve rapid updates to be responsive to their users. The information collected is expected to be voluntary and low-burden. Therefore, a generic umbrella ICR clearance is requested to allow for quick turnaround requests for similar information collections related to these activities.

As this generic umbrella ICR will focus on the awareness, understanding, attitudes, preferences, or experiences of customers or other stakeholders relating to HRSA-funded hotlines, chatlines, or portals, the Fast Track Process should apply to this information collection. Therefore, HRSA also requests OMB provide a response on individual information collection requests within the scope of this generic ICR within 5 business days.

Likely Respondents: The most likely respondents include users of a HRSA-funded hotline, chatline, or portal. These users may include members of the public and public or private entities who receive HRSA funding. Responses to any information collections under this generic umbrella ICR are not required to obtain or retain any benefit.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information.

The total annual burden hours estimated for this ICR are summarized in the table below. HRSA conducted this estimate based on reviewing hotline and chatline scripts along with online portals, in addition to reviewing the burden estimates of forms from previous HRSA customer service surveys, which were approved under other umbrella or regular packages.

Total Estimated Annualized Burden Hours
Instrument name | Number of respondents | Number of responses per respondent | Total responses | Average burden per response (in hours) | Total burden hours
Standardized Hotline Interaction | 100,000 | 1 | 100,000 | 0.17 | 17,000.00
Standardized Chatline Interaction | 100,000 | 1 | 100,000 | 0.17 | 17,000.00
Online Portal Submission | 10,000 | 1 | 10,000 | 0.067 | 670.00
Follow-Up Surveys | 51,750 | 1 | 51,750 | 0.083 | 4,295.25
Total | 261,750 |  | 261,750 |  | 38,965.25

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2024-26742 Filed 11-15-24; 8:45 am]

BILLING CODE 4165-15-P